DEPARTMENT OF ENERGY

Agency Information Collection Extension

AGENCY: U.S. Department of Energy.

ACTION: Notice of request for comments.

SUMMARY: The Department of Energy (DOE) invites public comment on a proposed collection of information that DOE is developing for submission to the Office of Management and Budget (OMB) pursuant to the Paperwork Reduction Act of 1995.

DATES: Comments regarding this proposed information collection must be received on or before September 4, 2024. If you anticipate that you will be submitting comments but find it difficult to do so within the period of time allowed by this notice, please advise the DOE Desk Officer at OMB of your intention to make a submission as soon as possible. The Desk Officer may be telephoned at (202) 395-4718.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Ken Hunt, Chief Privacy Officer, U.S. Department of Energy, 19901 Germantown Road, Rm. G-302, Germantown, MD 20874 or by telephone at (301) 903-3880 or by facsimile at (301) 903-7738, or by email at privacyactoffice@doe.gov, https://www.energy.gov/cio/office-chief-information-officer/services/guidance/privacy-program/submitting-privacy-act.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-1700;

(2) Information Collection Request Titled: Privacy Act Administration;

(3) Type of Review: Extension;

(4) Purpose: The Privacy Act Information Request form aids DOE's processing of Privacy Act requests submitted by an individual or an authorized representative, wherein he or she requests records that the government may maintain pertaining to that individual. The DOE's use of its form continues to contribute to DOE's Privacy Act processes, including, but not limited to, providing for faster processing of Privacy Act Information requests by asking individuals or their authorized representatives for pertinent information needed for records retrieval;

(5) Annual Estimated Number of Respondents: 390;

(6) Annual Estimated Number of Total Responses: 390;

(7) Annual Estimated Number of Burden Hours: 130;

(8) Annual Estimated Reporting and Recordkeeping Cost Burden: $14,079.

Statutory Authority

The Privacy Act of 1974, 5 U.S.C. 552a; Department of Energy, Records Maintained on Individuals (Privacy Act), 10 CFR part 1008; 42 U.S.C. 7101 et seq.; 50 U.S.C. 2401 et seq., and DOE Order 206.1.

Signing Authority

This document of the U.S. Department of Energy was signed on July 29, 2024, by Ann Dunkin, Chief Information Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 31, 2024.
Treena V. Garrett,
Federal Register Liaison Officer, U.S. Department of Energy.

[FR Doc. 2024-17216 Filed 8-2-24; 8:45 am]

BILLING CODE 6450-01-P